DEPARTMENT OF DEFENSE

Office of the Secretary

Meeting of the United States Commission on National Security/21st Century

AGENCY: Office of the Undersecretary of Defense (Policy), Department of Defense.

ACTION: Notice of closed meeting.

SUMMARY: The United States Commission on National Security/21st Century will meet in closed session on May 18, 2000. The Commission was originally chartered by the Secretary of Defense on 1 July 1998 (charter revised on 18 August 1999) to conduct a comprehensive review of the early twenty-first century global security environment; develop appropriate national security objectives and a strategy to attain these objectives; and recommend concomitant changes to the national security apparatus as necessary.

The Commission will meet in closed session on May 18, 2000, to give guidance on the methodology and approach to follow for the development of its Phase Three report. By Charter, the Phase Three report is to be delivered to the Secretary of Defense no later than February 16, 2001.

In accordance with Section 19(d) of the Federal Advisory Committee Act, Public Law 92-463, as amended [5 U.S.C., Appendix II], it is anticipated that matters affecting national security, as covered by 5 U.S.C. 552b(c)(1) (1988), will be presented throughout the meeting, and that, accordingly, the meeting will be closed to the public.

DATES: Thursday, May 18, 2000, 8:30 a.m.-5:00 p.m.

ADDRESSES: The CNA Corporation, 4401 Ford Avenue, Alexandria, VA 22302.

FOR FURTHER INFORMATION CONTACT: Dr. Keith A. Dunn, National Security Study Group, Suite 532, Crystal Mall 3, 1931 Jefferson Davis Highway, Arlington, VA 22202-3805. Telephone 703-602-4175.

Dated: April 24, 2000.
L.M. Bynum,
OSD Federal Register Liaison Officer, Department of Defense.

[FR Doc. 00-10571 Filed 4-27-00; 8:45 am]

BILLING CODE 5001-10-M